DEPARTMENT OF COMMERCE

Foreign-Trade Zones Board

[S-150-2017]

Foreign-Trade Zone 47—Boone County, Kentucky; Application for Subzone, Valeo North America, Inc., Winchester, Kentucky

An application has been submitted to the Foreign-Trade Zones Board (the Board) by the Greater Cincinnati FTZ, Inc., grantee of FTZ 47, requesting subzone status for the facility of Valeo North America, Inc. (Valeo), located in Winchester, Kentucky. The application was submitted pursuant to the provisions of the Foreign-Trade Zones Act, as amended (19 U.S.C. 81a-81u), and the regulations of the Board (15 CFR part 400). It was formally docketed on September 25, 2017.

The proposed subzone (12 acres) is located at 1175 Enterprise Drive, Winchester. A notification of proposed production activity has been submitted and is being processed under 15 CFR 400.37 (Doc. B-59-2017). The proposed subzone would be subject to the existing activation limit of FTZ 47.

In accordance with the Board's regulations, Elizabeth Whiteman of the FTZ Staff is designated examiner to review the application and make recommendations to the Executive Secretary.

Public comment is invited from interested parties. Submissions shall be addressed to the Board's Executive Secretary at the address below. The closing period for their receipt is November 7, 2017. Rebuttal comments in response to material submitted during the foregoing period may be submitted during the subsequent 15-day period to November 22, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: September 25, 2017.
Andrew McGilvray,
Executive Secretary.

[FR Doc. 2017-20802 Filed 9-27-17; 8:45 am]

BILLING CODE 3510-DS-P